DEPARTMENT OF EDUCATION

Applications for New Awards; Literacy Information and Communication System Regional Professional Development Centers

AGENCY: Office of Vocational and Adult Education, Department of Education.

ACTION: Notice.

Overview Information

Literacy Information and Communication System Regional Professional Development Centers Program Notice inviting applications for new awards using fiscal year (FY) 2010 funds for FY 2011.

Catalog of Federal Domestic Assistance (CFDA) Number: 84.191B.

DATES:

Applications Available: June 30, 2011.

Deadline for Notice of Intent To Apply: July 11, 2011.

Deadline for Transmittal of Applications: August 1, 2011.

Full Text of Announcement

I. Funding Opportunity Description

Purpose of Program: The Literacy Information and Communication System (LINCS) Regional Professional Development Centers (RPDCs) program is authorized under title II of the Workforce Investment Act of 1998 (WIA) (20 U.S.C. 9253(2)(H)), the Adult Education and Family Literacy Act (AEFLA). Under section 243 of the AEFLA, the Secretary is authorized to establish and carry out a program of national leadership activities to enhance the quality of adult education and literacy programs nationwide. Through the LINCS RPDC grants funded under this competition, we intend to support evidenced-based virtual or in-person adult education professional development (AEPD) activities in order to assist educators who provide adult education services ¹ or adult education instruction ² to adult learners (adult educators). In addition, the LINCS RPDC grants will enhance the quality of adult education and literacy nationwide by disseminating information to each eligible agency responsible for administering or supervising policy for adult education and literacy programs under section 203(4) of the AEFLA ³ (eligible agency), and to adult education and related organizations within each State and outlying area.

¹ Adult education services (e.g., career counseling, transportation counseling, education counseling) are provided to adult learners by educators who may include staff of eligible providers identified in section 203(5) of the AEFLA, as well as State staff responsible for the implementation of adult education programs.

² Adult education instruction (e.g., instruction in basic literacy, mathematics, and English language skills) is provided to adult learners by educators who may include adult education teachers and other instructional personnel of eligible providers identified in section 203(5) of the AEFLA.

³ Section 203(4) of the AEFLA defines the term “eligible agency” as “the sole entity or agency in a State or an outlying area responsible for administering or supervising policy for adult education and literacy in the State or outlying area, respectively, consistent with the law of the State or outlying area, respectively.”

Background: President Obama is committed to ensuring that America will once again lead the world in college completion by 2020. To help achieve this goal, the Department supports States to improve the effectiveness of teachers and school leaders, strengthen the use of data to improve instruction, provide high-quality instruction based on rigorous college- and career-ready standards, and measure students' mastery of standards using high-quality assessments aligned with those standards. Improving the education and literacy of the adult learner population is an important component in attaining the President's goal. Improving adult literacy hinges on the dissemination and effective delivery of high-quality, evidence-based AEPD. For the past 16 years, LINCS Regional Resource Centers (RRCs) have been supported by funding under section 242 of the AEFLA. The LINCS network provides information on a wide variety of literacy-related topics and resources ⁴ to assist adult educators in providing adult education services. As part of the LINCS network, the Department currently funds three LINCS RRCs, which collaborate with adult education and related organizations to disseminate high-quality literacy education resources (e.g., online materials) to adult educators, as well as to provide virtual and in-person AEPD and technical assistance to adult educators. The current RRCs provide training and workshops for adult educators using evidenced-based materials and assist adult educators in using online adult education instructional resources available through the LINCS network. The project period for the three LINCs RRCs will end on September 30, 2011.

⁴ The LINCS network provides a centralized point of access to information about adult literacy and an infrastructure to facilitate communication for adult educators (see http://lincs.ed.gov/). The components of the LINCS network, coordinated by the Department, currently include (1) A resource collection of research- and evidence-based resources and online discussion lists on topics such as reading, mathematics, English as a second language, transitions to postsecondary education, and workforce preparation (the Resource Collection); (2) a technology database and Web site infrastructure provided under a technical services contract; and (3) a regional system of three LINCS Regional Resource Centers.

Through this competition, the Department plans to award up to four cooperative agreements to entities to serve as LINCS RPDCs.⁵ As outlined in the Demonstrate capacity requirement in this notice, the RPDCs to be supported through this competition are designed to: (1) Disseminate information on the materials and the AEPD in the LINCS Resource Collection ⁶ to each eligible agency in the region that the applicant proposes to serve pursuant to the Select a region requirement in this notice (the applicant's selected region), and to adult education and related organizations within each State and outlying area in that region; (2) collaborate closely with eligible agencies to organize and deliver virtual or in-person AEPD; and (3) foster the use of new technologies, including virtual moderated communities of practice ⁷ (CoP), for adult educators. The Department plans to award grants for the RPDCs under the terms of cooperative agreements, giving the Department substantial direct operational involvement in the management and implementation of the activities undertaken by the RPDCs.

⁵ The current cooperative agreements under section 242 of the AEFLA for the three LINCS RRCs expire September 30, 2011. The three current RRCs develop and deliver professional development to recipients approved by the National Institute for Literacy (NIFL). Congress did not appropriate funds for NIFL in FY 2010. Therefore, the LINCS projects will be funded under section 243 of the AEFLA, National Leadership Activities. The LINCS RPDCs funded under this competition will be required to use professional development designed by the LINCS Resource Collection contractor with direction from and approval by the Department.

⁶ For more information on the LINCS Resource Collection, see http://lincs.ed.gov/lincs/resourcecollections/resource_collections.html.

⁷ Communities of practice are groups of people who share a concern or a passion for something they do and learn how to do it better as they interact regularly (see http://www.ewenger.com/theory/).

In conducting the required activities under the cooperative agreements awarded under this competition, LINCS RPDC grantees must: (1) Use the LINCS Resource Collection materials and other AEPD materials available on the Department's LINCS Web site for dissemination and AEPD, and (2) work collaboratively with the Department's LINCS Resource Collection contractor and the LINCS technical services contractor to meet the project's goals, objectives, and outcomes as required in paragraph (a) of the Develop a project design requirement in this notice. By structuring the required activities under the cooperative agreements in this way, the Department can build on earlier investments in the LINCS network and support new projects that use evidenced-based learning practices to improve adult literacy.

We are requiring that applicants select a single region that they propose to serve and agree to provide AEPD to each eligible agency in each State and outlying area in that region, as well as to adult education and related organizations within each State and outlying area in that region. This regional structure, which aligns with the Department's regional organization for the administration of adult education program services,⁸ is designed to ensure that adult educators and each eligible agency have direct access to AEPD through a LINCS RPDC.

⁸ Adult education services are those services provided by the Division of Adult Education and Literacy within the Office of Vocational and Adult Education to support States in the administration of formula and discretionary grants under the AEFLA.

Priority: We are establishing this priority for a competition using FY 2010 funds in FY 2011, and any subsequent year in which we make awards from the list of unfunded applicants from this competition, in accordance with section 437(d)(1) of the General Education Provisions Act (GEPA), 20 U.S.C. 1232(d)(1).

Competitive Preference Priority: This priority is a competitive preference priority. Under 34 CFR 75.105(c)(2)(i), we award up to an additional 15 points to an application, depending on how well the application meets this priority.

This priority is:

Demonstrated Experience in Providing Evidence-Based Professional Development for a Diverse Population of Adult Educators.

This priority provides a competitive preference for applicants that demonstrate that they have previous experience in facilitating AEPD for adult educators, using both virtual and in-person formats. To meet this priority, in its application, an applicant must—

(a) Describe the applicant's previous experience in providing AEPD to adult educators, using virtual and in-person formats;

(b) Describe the characteristics of the populations of adult educators to whom the applicant has provided AEPD in the past, including, at a minimum—

(1) The type of geographic location (e.g., urban, rural, suburban) of the adult educators to whom the applicant has provided AEPD; and

(2) The institutional affiliation (e.g., public school, community college, correctional facility, community-based organization) of the adult educators to whom the AEPD was provided; and

(c) Provide supporting evidence of the quality of the applicant's past AEPD by including at least one of the following:

(1) A summary of the participant evaluation ratings for at least three of its past AEPD training sessions of 12 hours of instruction or more.

(2) Letters endorsing the quality of the applicant's past AEPD from eligible agencies in at least three States or outlying areas within the applicant's selected region. Requirements: We are establishing these requirements for a competition using FY 2010 funds for FY 2011, and for any subsequent year in which we make awards from the list of unfunded applicants from this competition, in accordance with section 437(d)(1) of GEPA, 20, U.S.C. 1232(d)(1).

1. Select a region. To be eligible for funding under this competition, an applicant must, in its application, select one of the following regions to serve during the project period and describe its rationale for selecting that region:

(a) Region 1—Connecticut, Delaware, District of Columbia, Maine, Maryland, Massachusetts, New Hampshire, New Jersey, New York, Pennsylvania, Puerto Rico, Rhode Island, Vermont, and the Virgin Islands.

(b) Region 2—Alabama, Arkansas, Florida, Georgia, Kentucky, Louisiana, Mississippi, North Carolina, Oklahoma, South Carolina, Tennessee, Texas, Virginia, and West Virginia.

(c) Region 3—Illinois, Indiana, Iowa, Kansas, Michigan, Minnesota, Missouri, Nebraska, North Dakota, Ohio, South Dakota, and Wisconsin.

(d) Region 4—Alaska, Arizona, California, Colorado, Hawaii, Idaho, Montana, Nevada, New Mexico, Oregon, Utah, Washington, Wyoming, Guam, American Samoa, the Commonwealth of the Northern Mariana Islands, and the Republic of Palau.

2. Demonstrate capacity. To receive a grant under this competition, an applicant must demonstrate, in its application, that it has the capacity to—

(a) Implement effective approaches to AEPD by establishing collaborations with adult education and related organizations that help adult educators use evidence-based instructional practices in the applicant's selected region;

(b) Disseminate information about the materials and the AEPD in the LINCS Resource Collection to the eligible agency in each State and outlying area in the applicant's selected region and to adult education and related organizations within each State and outlying area in that region;

(c) Work with the Department's LINCS Resource Collection contractor and the LINCS technical services contractor to achieve the project goals, objectives, and outcomes of the application;

(d) Provide AEPD to adult educators using the evidence-based resources in the LINCS Resource Collection;

(e) Provide virtual or in-person AEPD, using materials from the LINCS Resource Collection, to each eligible agency in the applicant's selected region that requests AEPD;

(f) Provide virtual or in-person AEPD through collaborations with adult education and related organizations by using various formats (e.g., workshops, on-line courses, or other formats identified by the applicant) to help adult educators use evidence-based instructional practices designed to improve adult learners' basic literacy, mathematics, and English language skills and increase adult learners' rates of progression along their educational or occupational pathways;

(g) Organize and deliver AEPD that addresses priority AEPD topics identified in collaboration with the Department at the Department's post-award meeting;

(h) Foster the use of new technologies, including virtual moderated CoPs, and provide training for adult educators in the use of those technologies, including virtual moderated CoPs, to improve adult education teaching and learning; and

(i) Collect data on and evaluate the effectiveness of the training that it provides.

3. Provide a comprehensive high-quality regional AEPD and dissemination plan. The applicant must include in its application a plan for the development, implementation, and dissemination of comprehensive high-quality regional AEPD that improves adult learners' basic literacy, mathematics, and English language skills, and increases adult learners' rates of progression along their educational or occupational pathways. In the plan, the applicant must specify the procedures it will use to—

(a) Ensure equal access and treatment for eligible project participants who are members of groups that have traditionally been underrepresented based on race, color, national origin, gender, age, or disability;

(b) Disseminate information about the materials and the AEPD in the LINCS Resource Collection to each eligible agency in the applicant's selected region, and to adult education and related organizations within each State and outlying area in that region;

(c) Assess the AEPD needs of adult educators in each State and outlying area in the applicant's selected region that requests AEPD;

(d) Based on the results of the assessment described in paragraph (c) of this section, identify and provide evidence-based, cost-effective AEPD using materials in the LINCS Resource Collection to the adult educators in each State and outlying area in the applicant's selected region that requests AEPD;

(e) Enhance capacity of the RPDC to use various approaches to providing AEPD (on helping adult educators use evidence-based instructional practices) for each eligible agency in the applicant's selected region that will be receiving AEPD by establishing collaborations with adult education and related organizations;

(f) Identify the factors that it will consider when determining which formats (in accordance with paragraph (f) of the Demonstrate capacity requirement in this notice) to use for providing AEPD to adult educators;

(g) Organize and manage the AEPD that the RPDC will provide using its own staff or recognized AEPD trainers from the LINCS Resource Collection directory of AEPD trainers ⁹ (AEPD trainers), or both;

⁹ Under the new contract to be awarded for the LINCS Resource Collection, a directory of AEPD trainers will be developed in consultation with the RPDCs and the Department. The AEPD trainers listed in this directory will be selected based on criteria that include content area expertise, experience, and knowledge related to adult education.

(h) Foster the use of new technologies, including virtual moderated CoPs, and provide AEPD to adult educators in the use of those technologies to improve the technology skills of adult educators;

(i) Assess the outcomes of the AEPD it provides and the outcomes of its dissemination of AEPD-related information;

(j) Plan and implement, in coordination with the Department, no less than two five-day AEPD sessions using Learning to Achieve ¹⁰ for a minimum of 40 adult educators from the applicant's selected region; and

¹⁰ “Learning to Achieve” is a program offered in conjunction with the Department that is designed to build State capacity to increase the achievement of students with learning disabilities. This program includes an integrated set of research-based resources, and professional development materials based on the latest rigorous research. These resources and materials are designed to increase teacher effectiveness in providing services to adults with learning disabilities. Information about this program can be found at http://lincs.ed.gov/programs/learningtoachieve/learningtoachieve.html.

(k) Implement the AEPD sessions described in paragraph (j) of this section, by at a minimum—

(1) Securing meeting facilities;

(2) Providing materials and supplies; and

(3) Implementing meeting logistics, including by—

(A) Coordinating with the LINCS Resource Collection to ensure that the appropriate number of qualified AEPD trainers is assigned to each session; and

(B) Planning the budget for costs related to—

(i) Travel, per diem, and lodging for participants and trainers;

(ii) Meeting facilities and equipment rental; and

(iii) Meeting materials and supplies.

4. Identify advisory partners and the extent of their participation. An applicant that is awarded a cooperative agreement under this competition must—

(a) Identify at least one advisory partner in each State and outlying area in the applicant's selected region that will—

(1) Assist in the implementation of the project;

(2) Ensure equitable access to virtual or in-person AEPD for each State and outlying area in the applicant's selected region that requests such AEPD; and

(3) Ensure efficient use of resources;

(b) Include an advisory partner participation plan that describes—

(1) The rationale for selecting the advisory partners;

(2) How each advisory partner will—

(i) Participate in the proposed project through conference calls, in person meetings, or other means identified by the applicant; and

(ii) Assist the RPDC in achieving its project goals, objectives, and outcomes described in the Develop a project design requirement in this notice.

(c) Provide a letter of commitment from each advisory partner that indicates each advisory partner's capacity to—

(1) Assist in the dissemination of information about the materials and the AEPD in the LINCS Resource Collection to adult educators in their State or outlying area in the applicant's selected region;

(2) Assist in identifying the AEPD needs of adult educators and eligible agencies in their State or outlying area in the applicant's selected region that request such AEPD; and

(3) Assist in providing AEPD to adult educators and eligible agencies in States and outlying areas in the applicant's selected region that request such AEPD.

5. Develop a project design. The applicant must submit, as part of its application, a project design for the proposed project. The project design must include—

(a) Project goals, objectives, and outcomes for the three years of the proposed project, including but not limited to—

(1) The methods for dissemination of information about the materials and AEPD in the LINCS Resource Collection to adult educators in each State and outlying area in the applicant's selected region, and to adult education and related organizations within each State and outlying area in that region;

(2) How the applicant will determine (in accordance with paragraph (f) of the Develop capacity requirement in this notice) the formats it will use to provide AEPD to the adult educators in each State and outlying area in the applicant's selected region that requests such AEPD;

(3) The number of adult educators it proposes to provide AEPD in each year of the project;

(4) How the applicant will involve the advisory partners in achieving the project goals, objectives, and outcomes; and

(5) How the applicant will assess—

(A) The effectiveness of its dissemination of information about the materials and AEPD in the LINCS Resource Collection to adult educators in each State and outlying area in the applicant's selected region; and

(B) The quality of the AEPD it provides to adult educators in each State and outlying area in the applicant's selected region that requests such AEPD.

(b) A description of the process for implementing the priorities that will be established in collaboration with the Department at the Department's post-award meeting, for providing virtual or in-person AEPD to each State and outlying area in the applicant's selected region that requests such AEPD.

(c) A description of how the applicant would use data and information on first-year outcomes in paragraph (a) of this section to modify project goals, objectives, and outcomes for years two and three of the project period.

(d) A description of how progress on each project goal, objective, and outcome would be reported, on a quarterly basis, to the Department.

6. Propose a management plan. The applicant must submit, as part of its application, a management plan for the proposed project that—

(a) Identifies activities to be undertaken to accomplish each project goal, objective, and outcome, including, at a minimum, the required project activities described in paragraph (c)(3) of this section;

(b) Assigns responsibility for the completion of the activities identified in accordance with paragraph (a) of this section to specific project personnel, with the assistance of one or more advisory partners identified in the Identify advisory partners participation and the extent of their participation requirement in this notice when appropriate, and specifies timelines that will result in the timely completion of all required project activities;

(c) Describes how the applicant proposes to coordinate its project activities with—

(1) Eligible agencies and organizations responsible for adult education projects in the applicants' selected region;

(2) Other RPDCs;

(3) The Department and, as appropriate, other similar projects funded by the Department, in order to maximize the impact of the RPDC's activities that, at a minimum, must include—

(A) Attendance at the Department's biannual meetings of RPDC project directors and Department adult education project staff in order to—

(i) Report to the Department on the progress of its project goals, objectives, and outcomes; and

(ii) Identify and discuss common AEPD issues, strategies, and promising practices;

(B) Participation in monthly conference calls and other telephone or electronic meetings with the Department, as necessary;

(d) Provide assurance that the applicant will meet the following requirements—

(1) Attend a post-award meeting in Washington, DC, in order to—

(A) Discuss grantee project goals, objectives, outcomes, and activities;

(B) Work with the Department and other grantees to develop a plan for the coordination of AEPD among RPDC grantees; and

(C) Address management and accountability issues, such as, but not limited to—

(i) Determining the methods for reporting the effectiveness of the RPDC's efforts to—

(I) Disseminate information about the materials and AEPD in the LINCS Resource Collection to adult educators in each State and outlying area in the applicant's selected region; and

(II) Provide AEPD to the adult educators in each State and outlying area that requests such AEPD in the applicant's selected region; and

(ii) Establishing AEPD priorities in collaboration with the Department; and

(2) Provide presentations related to the work of the grantee's RPDC at—

(A) Department-sponsored meetings for eligible agency directors of adult education programs; and

(B) The annual meeting of the Commission on Adult Basic Education (COABE);

(e) Provides evidence that the time commitments of the project director and other key project personnel are appropriate to the activities assigned; and

(f) Provides a plan for monitoring the implementation of the AEPD it will provide under the proposed project.

7. Identify project personnel. In its application, the applicant must—

(a) Identify the extent to which the applicant encourages applications for employment from persons who are members of groups that have traditionally been underrepresented based on race, color, national origin, gender, age, or disability.

(b) Document the qualifications, including relevant training and experience, of the project director and key project personnel that clearly demonstrates their abilities to successfully implement assigned project tasks.

8. Provide adequate resources. In its application, the applicant must—

(a) Provide evidence of the level of support that the applicant and its advisory partners would provide to the proposed project (e.g., facilities, equipment, supplies, or other resources); and

(b) Demonstrate that the applicant's proposed budget is adequate to support the proposed project and the costs are reasonable in relation to the number of AEPD participants; the overall project goals, objectives, and outcomes; and the design of the proposed project.

Note: As indicated elsewhere in this notice, we plan to make each award under this program under the terms of a cooperative agreement between each grantee and the Department. We expect to have substantial and direct operational involvement in the management of the funded RPDCs and to work closely with grantees on project implementation and on plans for AEPD and project activities, including by facilitating the collaboration between grantees and the Department's LINCS Resource Collection contractor and the LINCS technical services contractor. We will review and approve all project activities based on the reports of progress on the goals, objectives, and outcomes during the project period. We will halt a project activity if it is not consistent with project requirements or does not align with the application's project goals, objectives, and outcomes.

Waiver of Proposed Rulemaking: Under the Administrative Procedure Act (5 U.S.C. 553), the Department generally offers interested parties the opportunity to comment on proposed requirements, priorities, and selection criteria. Section 437(d)(1) of GEPA, however, allows the Secretary to exempt from rulemaking requirements regulations governing the first grant competition under a new or substantially revised program authority. This is the first grant competition for this program under section 243 of the AEFLA and, therefore, qualifies for this exemption. In order to ensure timely grant awards, the Secretary has decided to forgo public comment on the priority and requirements in this notice under the authority of section 437(d)(1) of GEPA. The priority and requirements set forth in this notice apply to the competition using FY 2010 funds in FY 2011 and any subsequent year in which we make awards to grantees selected from the list of unfunded applicants from this competition.

Program Authority: 20 U.S.C. 9253(2)(H).

Applicable Regulations: (a) The Education Department General Administrative Regulation (EDGAR) in 34 CFR Parts 74, 75, 77, 79, 80, 81, 82, 84, 85, 86, 97, 98, and 99.

II. Award Information

Type of Awards: Cooperative agreements.

Estimated Available Funds: $1,475,000 is available from the FY 2010 appropriations for the implementation of the AEFLA for the first 12 months of this project period. Funding for years 2 through 3 is subject to the availability of funds and to a grantee meeting the requirements of 34 CFR 75.253.

Estimated Range of Awards: $350,000 to $386,000 for the first 12 months.

Estimated Average Size of Awards: $368,750 for the first budget period of 12 months.

Estimated Number of Awards: 4.

Note: The Department is not bound by any estimates in this notice.

Project Period: Up to 36 months. Applicants under this competition are required to provide detailed budget information for each year of the proposed project and for the total grant. Continuation awards are contingent on a grantee's progress, as provided in section 75.253 of EDGAR, and on the availability of appropriations.

III. Eligibility Information

1. Eligible Applicants: The following entities are eligible to apply under this competition:

(a) Institutions of higher education.

(b) Public or private nonprofit agencies or organizations.

(c) Consortia of eligible institutions, organizations, or agencies. Eligible applicants seeking to apply as a consortium must comply with the regulations in 34 CFR 75.127 through 75.129, which address group applications.

2. Cost Sharing or Matching: This competition does not require cost sharing or matching.

IV. Application and Submission Information

1. Address To Request Application Package: Noreen Lopez, U.S. Department of Education, 400 Maryland Avenue, SW., Room 11012, Potomac Center Plaza (PCP), Washington, DC 20202-7240. Telephone: (202) 245-6309 or by e-mail: noreen.lopez@ed.gov.

If you use a telecommunications device for the deaf (TDD), call the Federal Relay Service (FRS), toll free, at 1-800-877-8339.

Individuals with disabilities can obtain a copy of the application package in an accessible format (e.g., braille, large print, audiotape, or computer diskette) by contacting the person listed in this section.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary encourages each potential applicant to notify the Department by sending a short e-mail message indicating the applicant's intent to submit an application for funding. The e-mail should include only the applicant's intent to submit an application; it does not need to include information regarding the content of the proposed application. This e-mail notification should be sent no later than: July 11, 2011 to Noreen Lopez at: noreen.lopez@ed.gov. Please include “LINCS RPDC Application” in the subject line of your electronic message. We will consider an application submitted by the deadline date for transmittal of applications even if the applicant did not provide notice of its intent to apply. Applicants that fail to provide this e-mail notification may still apply for funding.

Page Limit: The application narrative (Part III of the application) is where you, the applicant, address the selection criteria that reviewers use to evaluate your application. You must limit the application narrative [Part III] to no more than 50 pages, using the following standards:

• A “page” is 8.5″ x 11″, on one side only, with 1″ margins on the top, bottom, and both sides.

• Double space (no more than three lines per vertical inch) all text in the application narrative, including titles, headings, footnotes, quotations, references, and captions, as well as all text in charts, tables, figures, and graphs.

• Use a font that is 12 point or larger or no smaller than 10 pitch (charters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, or the letters of support. However, the page limit does apply to all of the application narrative section [Part III].

We will reject your application if you exceed the page limit.

3. Submission Dates and Times:

Applications Available: June 30, 2011.

Deadline for Notice of Intent to Apply: July 11, 2011.

Deadline for Transmittal of Applications: August 1, 2011.

Applications for grants under this project must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR Part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) Be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition must be submitted electronically unless you qualify for an exception to this requirement in accordance with the instructions in this section.

a. Electronic Submission of Applications.

Applications for grants under the LINCS Regional Professional Development Centers, CFDA Number 84.191B, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

Address and mail or fax your statement to: Noreen Lopez, U.S. Department of Education, 400 Maryland Avenue, SW., PCP, Room 11012, Washington, DC 20202-7240. FAX: (202) 245-7171.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the following address: U.S. Department of Education, Application Control Center, Attention: (CFDA Number 84.191B), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.191B), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from EDGAR, 34 CFR 75.210, and are as follows:

Quality of the Project Design: (34 CFR 75.210(c)(1), (c)(2)(i) and (ii), (c)(2)(v), (c)(2)(x), (c)(2)(xiii), (c)(2)(xvii) and (c)(2)(xxi).

Quality of Project Services: (34 CFR 75.210(d)(1), (d)(2), (d)(3)(i), (d)(3)(ii), (d)(3)(iii), (d)(3)(v), (d)(3)(ix) and (d)(3)(x)).

Quality of Project Personnel: (34 CFR 75.210(e)(1), (e)(2), (e)(3)(i) and (e)(3)(ii)).

Adequacy of Resources: (34 CFR 75.210(f)(1), (f)(2)(i), (f)(2)(ii), (f)(2)(iii) and (f)(2)(v)).

Quality of the Management Plan: (34 CFR 75.210 (g)(1), and (g)(2)(i), (g)(2)(ii) and (g)(2)(iv)).

The text of these selection criteria is provided in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR Parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR Part 170 should you receive funding under the competition. This does not apply if you have an exception under 2 CFR 170.110(b).

(b) At the end of each quarter you must submit to the Secretary a report on your progress in meeting each project goal, objective, and outcome.

(c) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993, Federal departments and agencies must clearly describe the project objectives of programs, identify resources and actions needed to accomplish the project objectives, develop a means of measuring progress made, and regularly report on achievement. To assist the Department in determining the overall effectiveness of projects funded under this competition, grantees must be prepared to measure and report on the following measures of effectiveness:

(a) The number of eligible agencies and adult education and related organizations to which the LINCS RPDC disseminates information regarding the materials and the AEPD in the LINCS Resource Collection.

(b) The number of adult educators participating in AEPD offered by the RPDC.

(c) The number of hours of AEPD offered by the RPDC that are completed by adult educators.

(d) The percentage of adult educators participating in the RPDC's AEPD who implemented evidence-based practices in their instruction as a result of their completion of the AEPD.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Noreen Lopez, U.S. Department of Education, 400 Maryland Avenue, SW., Room 11012, PCP, Washington, DC 20202-7240. Telephone: (202) 245-6309, or by e-mail: noreen.lopez@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at this site.

You may also access documents of the Department published in the Federal Register by using the article search feature at: http://www.federalregister.gov. Specifically, through the advanced search feature at this site, you can limit your search to documents published by the Department.

Dated: June 27, 2011.
Brenda Dann-Messier,
Assistant Secretary for Vocational and Adult Education.

[FR Doc. 2011-16480 Filed 6-29-11; 8:45 am]

BILLING CODE 4000-01-P